DEPARTMENT OF EDUCATION

National Assessment Governing Board

AGENCY: National Assessment Governing Board, U.S. Department of Education.

ACTION: Announcement of open and closed meetings.

SUMMARY: This notice sets forth the agenda for the November 15-17, 2018 Quarterly Board Meeting of the National Assessment Governing Board (hereafter referred to as Governing Board). This notice provides information to members of the public who may be interested in attending the meeting or providing written comments related to the work of the Governing Board. Notice of this meeting is required under the Federal Advisory Committee Act (FACA).

DATES: The Quarterly Board Meeting will be held on the following dates:

• November 15, 2018 from 2:00 p.m. to 6:00 p.m.

• November 16, 2018 from 8:30 a.m. to 5:30 p.m.

• November 17, 2018 from 7:30 a.m. to 12:00 p.m.

ADDRESSES: Washington Court Hotel, 525 New Jersey Avenue NW, Washington, DC 20001.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION:

Statutory Authority and Function: The Governing Board is established under the National Assessment of Educational Progress Authorization Act, Title III of Public Law 107-279.

The Governing Board is established to formulate policy for the National Assessment of Educational Progress (NAEP). The Governing Board's responsibilities include the following: selecting subject areas to be assessed, developing assessment frameworks and specifications, developing appropriate student achievement levels for each grade and subject tested, developing standards and procedures for interstate and national comparisons, improving the form and use of NAEP, developing guidelines for reporting and disseminating results, and releasing initial NAEP results to the public.

November 15-17, 2018 Committee Meetings

The Governing Board's standing committees will meet to conduct regularly scheduled work based on agenda items planned for this Quarterly Board Meeting and follow-up items as reported in the Governing Board's committee meeting minutes available at https://www.nagb.gov/governing-board/quarterly-board-meetings.html.

Detailed Meeting Agenda: November 15-17, 2018

November 15: Committee Meetings

Ad Hoc Committee on Measures of Postsecondary Preparedness: Open Session: 2:00 p.m. to 4:00 p.m.

Executive Committee: Open Session: 4:30 p.m. to 4:35 p.m.; Closed Session 4:35 p.m. to 6:00 p.m.

November 16: Full Governing Board and Committee Meetings

Full Governing Board: Open Session: 8:30 a.m. to 10:15 a.m.; 2:45 p.m. to 4:45 p.m.; Closed Sessions: 12:45 p.m.-2:30 p.m.; 4:45 p.m. to 5:15 p.m.

Committee Meetings: 10:30 a.m. to 12:30 p.m.

Assessment Development Committee (ADC): Closed Session: 10:30 a.m.-11:05 a.m. Open Session: 11:05 a.m. to 12:30 p.m.

Reporting and Dissemination (R&D): Open Session 10:30 a.m. to 11:30 a.m.

Committee on Standards, Design and Methodology (COSDAM): Open Session: 10:30 a.m. to 11:30 a.m.;

Joint Committee Meetings: COSDAM and R&D: Open Session: 11:30 a.m. to 12:30 p.m.

November 17: Full Governing Board and Committee Meetings

Nominations Committee: Closed Session: 7:30 a.m. to 8:20 a.m.

Full Governing Board: Closed Session: 8:30 a.m. to 9:00 a.m.; Open Session: 9:00 a.m. to 11:00 a.m.; Closed Session: 11:00 a.m. to 12:00 p.m.

On Thursday, November 15, 2018, the Ad Hoc Committee on Measures of Postsecondary Preparedness will meet in open session from 2:00 p.m. to 4:00 p.m. The Executive Committee will convene in open session from 4:30 p.m. to 4:35 p.m. to review the committee agenda.

Thereafter, the Executive Committee will convene in closed session from 4:35 p.m. to 6:00 p.m. During the closed session, the Executive Committee will receive and discuss independent cost estimates and implications for implementing the Long-Term Trend assessment in 2021 and costs estimates to conduct assessments based on a draft revised NAEP Assessment Schedule extending to 2030. This meeting must be conducted in closed session because public disclosure of this information would likely have an adverse financial effect on the NAEP program by providing independent government cost estimates and proprietary contract costs of current NAEP contractors to the public. Discussion of this information would be likely to significantly impede implementation of a proposed agency action if conducted in open session. Such matters are protected by exemption 9(B) of section 552b of Title 5 U.S.C.

On Friday, November 16, 2018, the Governing Board will meet in open session from 8:30 a.m. to 10:15 a.m. From 8:30 a.m. to 9:30 a.m. the Governing Board will review and approve the November 15-17, 2018 quarterly meeting agenda and meeting minutes from the August 2018 Quarterly Board Meeting. The Governing Board Chair and new members of the Governing Board will provide remarks. Thereafter, the Secretary of Education, Betsy DeVos, will administer the oath of office to four new Governing Board members and a reappointed member, following which she will address the Governing Board. From 9:30 a.m. to 10:00 a.m. the Governing Board's Deputy Executive Director Lisa Stooksberry will provide an update on the Governing Board's work, followed by updates from the Institute of Education Sciences and NCES.

From 10:00 a.m. to 10:15 a.m., the standing committee chairs will provide a preview of the agenda items for the committee meetings. At 10:15 a.m., the Governing Board will recess for a 15 minute break. Thereafter, committee meetings will take place from 10:30 a.m. to 12:30 p.m.

The Committee on Standards, Design and Methodology and the Reporting and Dissemination Committee will meet in open sessions from 10:30 a.m. to 11:30 a.m. Thereafter, these committees will meet jointly in open session from 11:30 a.m. to 12:30 p.m.

The Assessment Development Committee will meet in closed session from 10:30 a.m. to 11:05 a.m. and thereafter in open session from 11:05 a.m. to 12:30 p.m. During the closed session, the Assessment Development Committee will review secure items on the Vocabulary Assessment in NAEP Reading. This meeting must be conducted in closed session because public disclosure of this information would likely have an adverse financial effect on the NAEP program by releasing test items that have not been disclosed to the public. Discussion of this information would be likely to significantly impede implementation of a proposed agency action if conducted in open session. Such matters are protected by exemption 9(B) of section 552b of Title 5 U.S.C.

Following the committee meetings, on Friday, November 16, 2018, the Governing Board will convene in closed session from 12:45 p.m. to 2:30 p.m. to discuss the NAEP Assessment Schedule and budget. This meeting must be conducted in closed session because discussions will involve reviewing independent government cost estimates for assessing various NAEP subjects on the assessment schedule. Public disclosure of the cost estimates would significantly impede implementation of the NAEP assessment program if conducted in open session. Such matters are protected by exemption 9(B) of § 552b(c) of Title 5 of the United States Code.

The Governing Board will take a 15 minute break and reconvene in open session from 2:45 p.m. to 4:45 p.m. The Governing Board will receive a briefing from a panel on the history and context of the NAEP achievement levels. The Governing Board will then discuss the draft Governing Board Policy on Developing Student Achievement Levels for NAEP.

From 4:45 p.m. to 5:15 p.m. the Governing Board will meet in closed session to receive a confidential briefing on ethics from the Office of General Counsel. This meeting is closed because the discussions pertain solely to internal personnel rules and practices of an agency and information of a personal nature wherein disclosure would constitute a clearly unwarranted invasion of personal privacy. As such, the discussions are protected by exemptions 2 and 6 of § 552b(c) of Title 5 of the United States Code.

The November 16, 2018 session of the Governing Board meeting will adjourn at 5:15 p.m.

On Saturday, November 17, 2018, the Governing Board will convene in three closed sessions. During the first closed session, the Nominations Committee will meet from 7:30 a.m. to 8:20 a.m. to discuss and receive updates on nominations received for Governing Board vacancies for terms that begin on October 1, 2019. The Nominations Committee's discussions pertain solely to internal personnel rules and practices of an agency and information of a personal nature where disclosure would constitute a clearly unwarranted invasion of personal privacy. As such, the discussions are protected by exemptions 2 and 6 of § 552b(c) of Title 5 of the United States Code.

The second closed session on November 17, 2018 scheduled from 8:30 a.m. to 9:00 a.m. is to receive a briefing from Terry Mazany, Chair of the Search Committee for the Executive Director, on the status of the search process with a proposed timeline for the search. These discussions pertain solely to internal personnel rules and practices of an agency and information of a personal nature where disclosure would constitute a clearly unwarranted invasion of personal privacy. As such, the discussions are protected by exemptions 2 and 6 of § 552b(c) of Title 5 of the United States Code.

Following these closed sessions, the Governing Board will meet in open session from 9:00 a.m. to 11:00 a.m. From 9:00 a.m. to 10:15 a.m., the Governing Board will receive a final report from the Chair of the Ad Hoc Committee Terry Mazany on recommendations made by the Ad Hoc Committee on Measures of Postsecondary Preparedness.

Following a 15 minute break, the Governing Board will receive reports from its standing committees from 10:30 a.m. to 11:00 a.m. Action items for Governing Board consideration include the Governing Board Policy on Developing Student Achievement Levels for NAEP and a proposed Release Plan for the 2018 NAEP Technology and Engineering Literacy Assessment.

From 11:00 a.m. to 12:00 p.m. the Governing Board will meet in its third closed session of the day to receive a briefing on the 2017 NAEP Writing Assessment. This meeting must be conducted in closed session because the assessment test items and data are secure and have not been released to the public. Public disclosure of the secure test items and data would significantly impede implementation of the NAEP assessment program if conducted in open session. Such matters are protected by exemption 9(B) of § 552b(c) of Title 5 of the United States Code.

The November 17, 2018 session of the Governing Board meeting will adjourn at 12:00 p.m.

Access to Records of the Meeting: Pursuant to FACA requirements, the public may also inspect the meeting materials at www.nagb.gov beginning on Thursday, November 15, 2018, by 10:00 a.m. EST. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice no later than 21 days prior to the meeting.

Written comments may be submitted electronically or in hard copy to the attention of the Executive Officer/Designated Federal Official (see contact information noted above). Information on the Governing Board and its work can be found at www.nagb.gov.

Electronic Access to This Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Dated: October 22, 2018.
Lisa Stooksberry,
Deputy Executive Director, National Assessment Governing Board (NAGB), U. S. Department of Education.

[FR Doc. 2018-23495 Filed 10-26-18; 8:45 am]

BILLING CODE 4000-01-P